DEPARTMENT OF THE INTERIOR

National Park Service

[NPS-WASO-NAGPRA-NPS0027005; PPWOCRADN0-PCU00RP14.R50000]

Notice of Inventory Completion: Beneski Museum of Natural History, Amherst College, Amherst, MA; Correction

AGENCY: National Park Service, Interior.

ACTION: Notice; correction.

SUMMARY: The Beneski Museum of Natural History, Amherst College (formerly the Pratt Museum of Natural History) has corrected an inventory of human remains, published in a Notice of Inventory Completion in the Federal Register on May 15, 2014. This notice corrects the minimum number of individuals. Lineal descendants or representatives of any Indian Tribe or Native Hawaiian organization not identified in this notice that wish to request transfer of control of these human remains should submit a written request to the Beneski Museum of Natural History, Amherst College. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Beneski Museum of Natural History, Amherst College at the address in this notice by January 22, 2019.

ADDRESSES: Tekla A. Harms, NAGPRA Coordinator, Beneski Museum of Natural History, Amherst College, Amherst, MA 01002, telephone (413) 542-2711, email taharms@amherst.edu.

SUPPLEMENTARY INFORMATION: Notice is here given in accordance with the Native American Graves Protection and Repatriation Act (NAGPRA), 25 U.S.C. 3003, of the correction of an inventory of human remains under the control of the Beneski Museum of Natural History, Amherst College, Amherst, MA. The human remains were removed from the town of Deerfield in Franklin County, MA.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (79 FR 27929-27931, May 15, 2014). Human remains from the town of Deerfield, Franklin County, MA, were omitted from this Notice of Inventory Completion because they were not in the possession of the Beneski Museum at the time that inventory was completed. The human remains had been stolen from the College, probably in the 1970's, and were anonymously returned to the College subsequent to publication of the original Notice of Inventory Completion. These human remains are now in the possession of the Beneski Museum. Transfer of control of the items in this correction notice has not occurred.

Correction

In the Federal Register (79 FR 27930, May 15, 2014), column 3, paragraph 1, under the heading “History and Description of the Remains,” is corrected by inserting the following paragraph:

At some time in the mid-nineteenth century, human remains representing, at minimum, one individual were removed from a site in Deerfield, Franklin County, MA. No records exist to determine precisely where or by whom the human remains were excavated. These human remains were in the possession of Amherst College until sometime, probably in 1971 or 1972, when they were stolen. The human remains were anonymously returned to the College in 2017. The human remains consist of a complete cranium and mandible with many teeth intact. The human remains are best identified as an adult. Contemporaneous catalog entries indicate the human remains were understood at the time of excavation to be Native American and to represent a burial of the indigenous population. These remains are identified as Pocumtuck. No known individual was identified. No associated funerary objects are present.

In the Federal Register (79 FR 27930, May 15, 2014), column 3, paragraph 2, sentence 1 under the heading “Determinations Made by the Beneski Museum of Natural History, Amherst College,” is corrected by substituting the following sentence:

Pursuant to 25 U.S.C. 3001(9), the human remains described in this notice represent the physical remains of six individuals of Native American ancestry.

Additional Requestors and Disposition

Lineal descendants or representatives of any Indian Tribe or Native Hawaiian organization not identified in this notice that wish to request transfer of control of these human remains should submit a written request with information in support of the request to Tekla A. Harms, NAGPRA Coordinator, Beneski Museum of Natural History, Amherst College, Amherst, MA 01002, telephone (413) 542-2711, email taharms@amherst.edu, by January 22, 2019. After that date, if no additional requestors have come forward, transfer of control of the human remains to the Narragansett Indian Tribe; Stockbridge Munsee Community, Wisconsin; and Wampanoag Tribe of Gay Head (Aquinnah) may proceed.

The Beneski Museum of Natural History, Amherst College is responsible for notifying the Narragansett Indian Tribe; Stockbridge Munsee Community, Wisconsin; Wampanoag Tribe of Gay Head (Aquinnah); and the following non-Federally recognized Indian groups: Abenaki Nation of Missisquoi, St. Francis/Sokoki Band, VT; Abenaki Nation of New Hampshire; Cowasuck Band of the Pennacook—Abenaki People, NH; Elnu Tribe of the Abenaki, VT; Koasek (Cowasuck) Traditional Band of the Koas Abenaki Nation, VT; Koasek Traditional Band of the Sovereign Abenaki Nation, VT; Nulhegan Band of the Coosuk-Abenaki Nation, VT; and Chaubunagungamaug Nipmuck and Nipmuc Nation, MA, that this notice has been published.

Dated: November 19, 2018.
Melanie O'Brien,
Manager, National NAGPRA Program.

[FR Doc. 2018-27707 Filed 12-20-18; 8:45 am]

BILLING CODE 4312-52-P